DEPARTMENT OF LABOR

Employment and Training Administration

[TA-W-62,784]

Kemet Electronics Corporation, A Subsidiary of Kemet Corporatiion Simpsonville Facility Including On-Site Leased Workers From Blanton Phillps Staffing Simpsonville, SC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 12, 2008, applicable to workers of Kemet Electronics Corporation, a subsidiary of Kemet Corporation, Simpsonville Facility, including on-site leased workers from Blanton Phillips Staffing, Simpsonville, South Carolina. The notice will be published soon in the Federal Register.

At the request of the State agency, the Department reviewed the certification for workers of the subject firm. The workers were engaged in the production of tantalum capacitors.

Findings show that there was a previous certification, TA-W-58,661A, issued on February 7, 2006, for the workers of the Simpsonville Facility, Simpsonville, South Carolina. That certification expired February 7, 2008. To avoid an overlap in worker group coverage for the workers of the Simpsonville, South Carolina location, the certification is being amended to change the impact date from January 25, 2007 to February 8, 2008.

Accordingly, the Department is amending the certification to properly reflect this matter.

The intent of the Department's certification is to include all workers of Kemet Electronics Corporation, a subsidiary of Kemet Corporation who were adversely affected by a shift in production of tantalum capacitors to Mexico.

The amended notice applicable to TA-W-62,784 is hereby issued as follows:

All workers of Kemet Electronics Corporation, a subsidiary of Kemet Corporation, Simpsonville Facility, including on-site leased workers from Blanton Phillips Staffing, Simpsonville, South Carolina, who became totally or partially separated from employment on or after February 8, 2008, through March 12, 2010, are eligible to apply for adjustment assistance under Section 223 of the Trade Act of 1974, and are also eligible to apply for alternative trade adjustment assistance under Section 246 of the Trade Act of 1974.

Signed at Washington, DC this 25th day of March 2008.
Elliott S. Kushner,
Certifying Officer, Division of Trade Adjustment Assistance.

[FR Doc. E8-8984 Filed 4-23-08; 8:45 am]

BILLING CODE 4510-FN-P